DEPARTMENT OF DEFENSE

Office of the Secretary

[Transmittal No. 24-0P]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-0P.

Dated: January 9, 2026.
Stephanie J. Bost,
Alternate OSD Federal Register Liaison Officer, Department of Defense.

BILLING CODE 6001-FR-P

BILLING CODE 6001-FR-C

Transmittal No. 24-0P

REPORT OF ENHANCEMENT OR UPGRADE OF SENSITIVITY OF TECHNOLOGY OR CAPABILITY (SEC. 36(B)(5)(C), AECA)

(i) Purchaser: Government of Pakistan

(ii) Sec. 36(b)(1), AECA Transmittal No.: 19-29

Date: July 26, 2019

Implementing Agency: Air Force

Funding Source: Foreign Military Financing

(iii) Description: On July 26, 2019, Congress was notified by congressional certification transmittal number 19-29 of the possible sale, under Section 36(b)(1) of the Arms Export Control Act, of the continuation of technical support services; United States (U.S.) Government and contractor technical and logistics support services; and other related elements of logistics support to assist in the oversight of operations in support of the Pakistan Peace Drive advanced F-16 program. The estimated total value was $125 million. There was no Major Defense Equipment (MDE) associated with this sale.

This transmittal notifies an extension of the previously notified technical support services; U.S. Government and contractor technical and logistics support services; and other related elements of logistics support to assist in the oversight of operations in support of the Pakistan Peace Drive advanced F-16 program. There is no MDE being reported with this notification and, as such, the total MDE value remains $0. The total estimated value of the newly extended, non-MDE services is $148 million, resulting in an increase in both the estimated non-MDE and overall total case value to $273 million.

(iv) Significance: This notification is being provided as the additional non-MDE items represents an increase in value and length of services over what was previously notified

(v) Justification: This proposed sale will contribute to the foreign policy and national security of the U.S. by improving the security of a partner nation that is a force for political stability in the region by allowing Pakistan to retain interoperability with U.S. and coalition forces in ongoing counterterrorism efforts and in preparation for future contingency operations.

(vi) Sensitivity of Technology:

The highest level of classification of defense articles, components, and services included in this potential sale is SECRET.

(vii) Date Report Delivered to Congress: November 7, 2024

* as defined in Section 47(6) of the Arms Export Control Act

[FR Doc. 2026-00529 Filed 1-13-26; 8:45 am]

BILLING CODE 6001-FR-P